DEPARTMENT OF HEALTH AND HUMAN SERVICES

Administration for Children and Families

Submission for OMB Review; Comment Request

Title: National Directory of New Hires.

OMB No.: 0970-0166.

Description: The National Directory of New Hires (NDNH) is a centralized directory maintained by the Federal Office of Child Support Enforcement. The information maintained in the NDNH is collected electronically and used to help child support agencies in locating parents and enforcing child support orders. Also, Congress authorized specific State and Federal agencies to receive NDNH information for authorized purposes to assist in administering certain programs. The NDNH is authorized under 42 U.S.C. 653(i)(1).

The information collection activities pertaining to the NDNH are authorized by:

(1) 42 U.S.C. 653A(b)(1)(A) and (B), requiring employers to report all newly-hired employees to the State Directory of New Hires (SDNH);

(2) 42 U.S.C. 653A(g)(2)(A), requiring every SDNH to transmit the new hire information to the NDNH within three business days of the data being entered in the SDNH;

(3) 26 U.S.C. 3304(a)(16)(B), requiring the reporting of wage and unemployment compensation information contained in the records of agencies administering the State program under part A of title IV of the Social Security Act; and

(4) Requiring the quarterly reporting of wages and other compensation under—

• 42 U.S.C. 653A(g)(2)(B), by every SDNH; and

• 42 U.S.C. 503(h)(1)(A), by State agencies administering the State's unemployment laws.

Respondents: Employers, State IV-A Agencies, State Child Support Agencies, and State Workforce Agencies.

Respondents

Annual Burden Estimates
Instrument | Number of respondents | Number of responses per respondent | Average burden hours per response | Total burden hours
New Hire: Employers Reporting Manually | 5,130,348 | 1.40 | .025 hours (1.5 minute) | 179,562.18
New Hire: Employers Reporting Electronically | 595,812 | 88.62 | .00028 hours (1 second) | 14,784.24
New Hire: States | 54 | 133,333.33 | .016667 hours (1 minute) | 120,002.40
QW & UI | 53 | 26.00 | .00028 hours (1 second) | 0.39
Multistate Employer Form | 5,127 | 1.00 | .050 hours (3 minutes) | 256.35
Estimate Total Annual Burden Hours |  |  |  | 314,606

Estimated Total Annual Burden Hours: 314,606 hours.

Additional Information

Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2016-04410 Filed 2-29-16; 8:45 am]

BILLING CODE 4184-01-P